DEPARTMENT OF THE INTERIOR

Bureau of Land Management

[SDM 013790]

Public Land Order No. 7793; Partial Revocation of Public Land Order No. 1535; South Dakota

AGENCY: Bureau of Land Management, Interior.

ACTION: Public land order.

SUMMARY: This order partially revokes the withdrawal created by Public Land Order No. 1535 insofar as it affects 14.43 acres of National Forest System land withdrawn for use by the U.S. Forest Service as a roadside zone. This order also opens the land to exchange.

DATES: Effective Date: August 2, 2012.

FOR FURTHER INFORMATION CONTACT: Valerie Hunt, U.S. Forest Service, Rocky Mountain Region, 740 Simms Street, Golden, Colorado 80401, 303-275-5071, vbhunt@fs.fed.us, or Sandra Ward, Bureau of Land Management, 5001 Southgate Drive, Billings, Montana 59101-4669, 406-896-5052, sward@blm.gov. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The U.S. Forest Service has determined that a portion of the withdrawal created by Public Land Order No. 1535 is no longer needed for the purpose for which it was withdrawn and has requested a partial revocation. The revocation is needed to facilitate a pending U.S. Forest Service land exchange.

Order

By virtue of the authority vested in the Secretary of the Interior by Section 204 of the Federal Land Policy and Management Act of 1976, 43 U.S.C. 1714, it is ordered as follows:

1. The withdrawal created by Public Land Order No. 1535, which withdrew National Forest System land from all forms of appropriation under the public land laws, including the United States mining laws, but not from leasing under the mineral leasing laws or the Act of July 31, 1947, as amended, and reserved them on behalf of the U.S. Forest Service for use as roadside zones, is hereby revoked only insofar as it affects the following described land:

Black Hills National Forest

Black Hills Meridian

T. 1 S., R. 6 E.,

Sec. 22, a strip of land 330 feet on each side of the centerline of old U.S. Highway Nos. 16 and 16A through the NW¼;SE¼;.

The area described contains 14.43 acres in Pennington County.

2. At 9 a.m. on August 2, 2012, the land described in Paragraph 1 will be opened to exchange pursuant to the General Exchange Act of March 20, 1922, (16 U.S.C. 485), as amended, and Section 206 of the Federal Land Policy and Management Act of 1976, as amended, (43 U.S.C. 1716), subject to valid existing rights, the provisions of existing withdrawals, other segregations of record, and the requirements of applicable law.

Authority: 43 CFR 2091.6.

Dated: July 13, 2012.
Rhea S. Suh,
Assistant Secretary—Policy, Management and Budget.

[FR Doc. 2012-18885 Filed 8-1-12; 8:45 am]

BILLING CODE 3410-11-P